DEPARTMENT OF ENERGY

Federal Energy Regulatory Commission

[Docket No. RP00-182-000]

Young Gas Storage Company, Ltd.; Notice of Tariff Filing

Correction

In notice document 00-4455 beginning on page 10070 in the issue of Friday, February 25, 2000, the docket line should appear as set forth above.

[FR Doc. C0-4455 Filed 3-6-00; 8:45 am]

BILLING CODE 1505-01-D

FEDERAL MARITIME COMMISSION

Sunshine Act Meeting

Correction

In notice document 00-5348 beginning on page 11579 in the issue of Friday, March 3, 2000, make the following correction:

On page 11579, in the second column after the heading “AGENCY HOLDING THE MEETING: Federal Maritime Commission.”, insert the following heading: “TIME AND DATE: 10:00 a.m. - March 8, 2000.”

[FR Doc. C0-5348 Filed 3-6-00; 8:45 am]

BILLING CODE 1505-01-D

DEPARTMENT OF HEALTH AND HUMAN SERVICES

National Institutes of Health

Prospective Grant of Exclusive License: Uteroglobin in Treatment of IgA Mediated Autoimmune Disorders

Correction

In notice document 00-4009 beginning on page 8384 in the issue of Friday, February 18, 2000, make the following corrections:

On page 8384, in the third column, seven lines from the bottom, the sentence should end, “on or before May 18, 2000, will be considered.”

[FR Doc. C0-4009 Filed 3-6-00; 8:45 am]

BILLING CODE 1505-01-D

DEPARTMENT OF THE INTERIOR

Bureau of Land Management

[CA-180-1430-ET; CACA 41334]

Notice of Proposed Withdrawal and Opportunity for Public Meeting; California

Correction

In notice document 00-3983, beginning on page 8734, in the issue of Tuesday, February 22, 2000, in the third column, in the legal description under Mount Diablo Meridian, Calfornia, in the last line “P=’02’≤” should be removed.

[FR Doc. C0-3983 Filed 3-6-00; 8:45 am]

BILLING CODE 1505-01-D

DEPARTMENT OF THE TREASURY

Office of Thrift Supervision

Proposed Agency Information Collection Activities

Correction

In notice document 00-4931 beginning on page 11108 in the issue of Wednesday, March 1, 2000, make the following correction:

On page 11108, in the third column, under the heading ADDRESSES:, in the sixth line, “Attention 1550-0223” should read “ Attention 1550-0023”.

[FR Doc. C0-4931 Filed 3-6-00; 8:45 am]

BILLING CODE 1505-01-D